DEPARTMENT OF COMMERCE

Census Bureau

Agency Information Collection Activities; Submission to the Office of Management and Budget (OMB) for Review and Approval; Comment Request; Monthly Wholesale Trade Survey

AGENCY: Census Bureau, Department of Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed extension of the Monthly Wholesale Trade Survey, prior to the submission of the information collection request (ICR) to OMB for approval.

DATES: To ensure consideration, comments regarding this proposed information collection must be received on or before October 14, 2025.

ADDRESSES: Interested persons are invited to submit written comments by email to Thomas.J.Smith@census.gov or PRAcomments@doc.gov. Please reference Monthly Wholesale Trade Survey in the subject line of your comments. You may also submit comments, identified by Docket Number USBC-2025-0073, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Emma Reburn, Chief, Wholesale Indicator Branch, Economic Indicators Division, by phone at 301-763-0259, or by email at emma.p.reburn@census.gov.

SUPPLEMENTARY INFORMATION:

I. Abstract

The Monthly Wholesale Trade Survey (MWTS) provides measures of monthly sales, end-of-month inventories, and inventories/sales ratios in the United States by selected kinds of business for merchant wholesalers, excluding manufacturers' sales branches and offices. Estimates from the MWTS are released in three different reports each month. High level aggregate estimates for end-of-month inventories are first released as part of the Advance Economic Indicators Report approximately 27 days after the close of the reference month. The full Monthly Wholesale Trade Report containing both sales and inventories estimates is released approximately 39 days after the close of the reference month. Sales and inventories estimates from the MWTS are also released as part of the Manufacturing and Trade Inventories and Sales (MTIS) report issued approximately 45 days after the close of the reference month. The Bureau of Economic Analysis uses this information to improve the inventory valuation adjustments applied to estimates of the Gross Domestic Product. The Bureau of Labor Statistics (BLS) uses the data as input to develop Producer Price Indexes and productivity measurements.

The MWTS estimates are also used as an input in the Monthly Wholesale Real Dollar Estimates experimental product, first published on September 19, 2022 and then revised and appended on September 09, 2024. This is a supplement to the MWTS report. The estimates were created from the nominal MWTS sales and inventory series using product weights developed from existing Census Bureau data releases and price indexes from the BLS. Within the report, real dollar sales, inventories, and inventories-to-sales ratio estimates and corresponding residuals are available for Total Merchant Wholesalers, except Manufacturers' Sales Branches and Offices, as well as the two 3-digit and eighteen 4-digit North American Industry Classification System (NAICS) wholesale subsectors. Monthly estimates are available from January 2012 forward and can be found at www.census.gov/wholesale/real.html.

Estimates produced from the MWTS are based on a probability sample and are published on the NAICS basis. The sample design consists of small, medium, and large cases requested to report sales and inventories each month. The sample, consisting of about 4,200 wholesale businesses, is drawn from the Business Register, which contains all Employer Identification Numbers (EINs) and listed establishment locations. The sample is updated quarterly to reflect employer business “births” and “deaths”. New employer businesses identified in the Business and Professional Classification Survey are added and employer businesses determined to be no longer active are removed.

II. Method of Collection

Respondents are initially contacted primarily by email, with a small subset receiving a letter by mail. After initial contact, non-respondents are contacted by email and/or telephone follow-up. We collect the data primarily by internet. We collect a small portion of the data by mail, telephone follow-up, and fax. Paper collection will be phased out beginning in late 2025.

III. Data

OMB Control Number: 0607-0190.

Form Number(s): SM4217-A and SM4217-E.

Type of Review: Regular submission. Request for an Extension without change of a currently approved collection.

Affected Public: U.S. merchant wholesale firms, excluding manufacturers' sales branches and office.

Estimated Number of Respondents: 4,200.

Estimated Time per Response: 7 minutes.

Estimated Total Annual Burden Hours: 5,880 hours.

Estimated Total Annual Cost to Public: $0. (This is not the cost of respondents' time, but the indirect costs respondents may incur for such things as purchases of specialized software or hardware needed to report, or expenditures for accounting or records maintenance services required specifically by the collection.)

Respondent's Obligation: Voluntary.

Legal Authority: Title 13 U.S.C. 131 and 182.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Compliance Officer, Office of the Under Secretary for Economic Affairs, Commerce Department.

[FR Doc. 2025-15462 Filed 8-13-25; 8:45 am]

BILLING CODE 3510-07-P